DEPARTMENT OF LABOR

Employment and Training Administration

[TA-W-39,069 and NAFTA-04632]

Rosboro Lumber Company, Mill A, Springfield, OR; Notice of Negative Determination Regarding Application for Reconsideration

By application of May 1, 2001, the petitioner requested administrative reconsideration of the Department's negative determination regarding eligibility for workers and former workers of the subject firm to apply for Trade Adjustment Assistance (TAA) under petition TA-W-39,069 and North American Free Trade Agreement-Transitional Adjustment Assistance (NAFTA-TAA) under NAFTA-4632. The denial notices applicable to workers of Rosboro Lumber Company, Mill A, Springfield, Oregon, were signed on April 30, 2001 (TA-W-39,069), and April 19, 2001 (NAFTA-6432) and published in the Federal Register on Mau 18, 2001 (66 FR 27690) and May 3, 2001 (66 FR 22262), respectively.

Pursuant to 29 CFR 90.18(c) reconsideration may be granted under the following circumstances:

(1) If its appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Rosboro Limber Company, Mill A, Springfield, Oregon, producing softwood dimension lumber (primary product produced at the plant), was denied because the “contributed importantly” group eligibility requirement of Section 222(3) of the Trade Act of 1974, as amended, was not met. The “contributed importantly” test is generally demonstrated through a survey of the workers' firm's customers. The survey revealed no increased customer imports of softwood dimension lumber during the relevant period. The investigation further revealed that the subject company did not import softwood dimensional lumber during the relevant period.

The NATA-TAA petition for the same worker group was denied because criteria (3) and (4) of the group eligibility requirements in paragraph (a)(1) of Section 250 of the Trade Act, as amended, were not met. A surveys was conducted and revealed that customers did not increase their imports of softwood dimensional lumber from Mexico or Canada during the relevant period. The subject firm did not import softwood dimensional limber from Mexico or Canada, nor was production of softwood dimensional lumber shifted from the workers' firm to Mexico or Canada.

The petitioner alleges that the mill produced another product (lam-stock) and that product was being imported by the mill from Canada to the United States. Although the mill produced lam-stock (considered dimensional lumber of a higher quality) it accounted for a very low portion of mill production. The company reported importing lam-stock from Canada during the relevant period. However, since the workers are not separately identifiable at the mill by dimensional lumber type and the overwhelming majority of softwood dimensional lumber is of a different grade, the imports of lam-stock can not be considered a major contributing factor to the layoffs at the subject plant.

Conclusion

After review of the application and investigative findings, I conclude that there has been no error or misinterpretation of the law or of the facts which would justify reconsideration of the Department of Labor's prior decisions. Accordingly, the application is denied.

Signed at Washington, D.C., this 4th day of October, 2001.
Edward A. Tomchick,
Director, Division of Trade Adjustment Assistance.

[FR Doc. 01-26359 Filed 10-18-01; 8:45 am]

BILLING CODE 4510-30-M